DEPARTMENT OF COMMERCE

Foreign-Trade Zones Board

[Docket 31-2003]

Foreign-Trade Zone 93—Research Triangle Park, NC, Area Application for Expansion

An application has been submitted to the Foreign-Trade Zones (FTZ) Board (the Board) by the Triangle J Council of Governments, grantee of Foreign-Trade Zone 93, requesting authority to expand FTZ 93, in the Research Triangle Park, North Carolina, area, within the Raleigh-Durham Customs port of entry. The application was submitted pursuant to the provisions of the Foreign-Trade Zones Act, as amended (19 U.S.C. 81a-81u), and the regulations of the Board (15 CFR part 400). It was formally filed on June 18, 2003.

FTZ 93 was approved on November 4, 1983 (Board Order 233, 48 FR 52108, 11/16/83). The zone project currently consists of the following sites: Site 1 (121 acres)—within the Imperial Center Industrial Park, adjoining the Research Triangle Park in Durham County; Site 1A (temporary; 85 acres)—World Trade Park, adjacent to Raleigh-Durham International Airport; Site 2 (6 acres)—5604 Departure Drive, Raleigh; and, Site 3 (110 acres)—Woodland Industrial Park, Highway 56 and I-85, Granville County.

The applicant is now requesting authority to expand the general-purpose zone to replace existing Site 3 with a new site and to make temporary Site 1A permanent. Proposed New Site 3 (240 acres) would be located at the Holly Springs Business Park (owned by G&G Properties), at the intersection of West Balletine Street and Irving Parkway, Holly Springs. It is also being requested at this time that temporary Site 1A (expires 10/1/03), which has been fully activated, be made permanent. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is August 25, 2003. Rebuttal comments in response to material submitted during the foregoing period may be submitted during the subsequent 15-day period (to September 9, 2003).

A copy of the application and accompanying exhibits will be available for public inspection at the Office of the Foreign-Trade Zones Board's Executive Secretary at the first address listed above, and at the Office of the Economic Development Department, Town of Holly Springs, 128 South Main Street, Holly Springs, North Carolina 27540.

Dated: June 19, 2003.
Dennis Puccinelli,
Executive Secretary.

[FR Doc. 03-16222 Filed 6-25-03; 8:45 am]

BILLING CODE 3510-DS-P